ENVIRONMENTAL PROTECTION AGENCY

[FRL-8243-3]

Public Water System Supervision Program Revisions for the State of Minnesota

AGENCY: Environmental Protection Agency (EPA).

ACTION: Notice of tentative approval.

SUMMARY: Notice is hereby given that the State of Minnesota is revising its approved Public Water System Supervision Program. Minnesota has revised the following rules: Consumer Confidence Reports; Lead and Copper Technical Corrections; Synthetic Organic Chemicals/Inorganic Chemicals (SOC/IOC) Technical Amendments; Analytical Methods Technical Corrections; Analytical Methods for Radionuclides; Point of Use Devices; Public Water Supply (PWS) Definition; Administrative Penalty Order (APO) Authority; and Variances and Exemptions for compliance with National Primary Drinking Water Regulations Rule.

EPA has determined that these revisions by the State are no less stringent than the corresponding Federal regulations. Therefore, EPA intends to approve these revisions to the State of Minnesota's Public Water System Supervision Program. This approval action does not extend to public water systems (PWSs) in Indian Country, as the term is defined in 18 U.S.C. 1151. By approving these rules, EPA does not intend to affect the rights of Federally recognized Indian Tribes in Minnesota, nor does it intend to limit existing rights of the State of Minnesota. Any interested party may request a public hearing. A request for a public hearing must be submitted by December 18, 2006, to the Regional Administrator at the EPA Region 5 address shown below. The Regional Administrator may deny frivolous or insubstantial requests for a hearing. However, if a substantial request for a public hearing is made by December 18, 2006, EPA Region 5 will hold a public hearing. If EPA Region 5 does not receive a timely and appropriate request for a hearing and the Regional Administrator does not elect to hold a hearing on his own motion, this determination shall become final and effective on December 18, 2006. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection at the following offices: Minnesota Department of Health, 625 North Robert Street, P.O. Box 64975, St. Paul, Minnesota 55164-0975, between the hours of 8:30 a.m. and 4 p.m., Monday through Friday, and the United States Environmental Protection Agency, Region 5, Ground Water and Drinking Water Branch (WG-15J), 77 West Jackson Boulevard, Chicago, Illinois 60604, between the hours of 9 a.m. and 4:30 p.m., Monday through Friday.

FOR FURTHER INFORMATION CONTACT: Lynne Roberts, EPA Region 5, Ground Water and Drinking Water Branch, at the address given above, by telephone at (312) 886-0250, or at Roberts.lynne@epa.gov.

Authority: (Section 1413 of the Safe Drinking Water Act, as amended, 42 U.S.C. 3006-2 (1996), and 40 CFR part 142 of the National Primary Drinking Water Regulations).

Dated October 31, 2006.
Mary A. Gade,
Regional Administrator, Region 5.

[FR Doc. E6-19469 Filed 11-16-06; 8:45 am]

BILLING CODE 6560-50-P